DEPARTMENT OF THE INTERIOR

National Park Service

Proposed Ten Percent Increase in Glacier Bay Cruise Ship Quota Beginning in Year 2007

AGENCY: National Park Service, Interior.

ACTION: Notice of availability; Proposed Ten Percent Increase in the Seasonal Cruise Ship Quota for Glacier Bay National Park and Preserve for Year 2007.

SUMMARY: The Superintendent of Glacier Bay National Park and Preserve proposes to increase the number of cruise ships allowed to enter Glacier Bay during the summer visitor season by ten percent beginning in 2007. The current cruise ship limit is a seasonal quota of 139 visits during June, July and August. The proposal, if implemented, would increase the seasonal cruise ship quota to 153.

DATES: Comments on the proposal must be received no later than February 21, 2006.

ADDRESSES: The proposal memorandum and related documents may be viewed online at http://www.nps.gov/glba/pphtml/documents.html. Please submit electronic comments on the proposal memorandum at http://parkplanning.nps.gov/parkHome.cfm?parkId=12. Written comments can be mailed to the Superintendent, Glacier Bay National Park and Preserve, P.O. Box 140, Gustavus, AK 99826 or faxed to (907) 697-2654.

Comments may be hand delivered to the Superintendent at Glacier Bay National Park and Preserve, 1 Park Road, Room 204, Gustavus, AK 99826.

FOR FURTHER INFORMATION CONTACT: Tomie Lee, Superintendent, Glacier Bay National Park and Preserve, P.O. Box 140, Gustavus, AK 99826; (907) 697-2230.

SUPPLEMENTARY INFORMATION: Cruise ship use in Glacier Bay is currently limited to no more than two ships per day and a further seasonal quota of 139 total visits during June, July, and August of each year. The superintendent may adjust this seasonal quota upwards or downwards, but may not exceed two ships per day. The Glacier Bay National Park and Preserve Vessel Quota and Operating Requirements Environmental Impact Statement and Record of Decision (VQOR EIS and ROD) provide additional background information regarding vessel management within the park area.

Federal regualations specific to Glacier Bay National Park and Preserve (36 CFR 13.65(b)(2)(v)(C)) provide that “[b]y October 1 of each year (beginning in 1998), the superintendent will determine, with the director's approval, the number of cruise ship entries for the following summer season (June 1 through august 31). this determination will be based upon available scientific and other information and applicable authorities. The number will be subject to the maximum daily limit of two vessel use-days. The superintendent will publish a document of any revision in seasonal entries in the Federal Register with opportunity for public comment.”

This proposal is the result of the VQOR EIS public planning process. In making the proposal the Superintendent considered reviews of the best available scientific information collected both by the National Park Service and by scientists independent of the agency, which were incorporated in the report and recommendations from the Glacier Bay National Park Science Advisory Board, and an assessment of that report provided by the NPS Alaska Regional Science Advisor.

Following a review of public comments submitted in response to this notice, the Superintendent will submit the final decision for submission to the Director of the National Park Service for approval. If an increase is approved it will be announced in the Federal Register.

Dated: December 22, 2005.
Marcia Blaxzak,
Regional Director, Alaska.

[FR Doc. 06-482 Filed 1-18-06; 8:45 am]

BILLING CODE 4312-HX-M